DEPARTMENT OF ENERGY

Federal Energy Regulatory Commission

[Project No. 6440-010]

Lakeport Hydroelectric One, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 6440-010.

c. Date filed: August 30, 2021.

d. Applicant: Lakeport Hydroelectric One, LLC (Lakeport).

e. Name of Project: Lakeport Hydroelectric Project (project).

f. Location: On the Winnipesaukee River in Belknap County, New Hampshire. The project does not occupy any federal land.

g. Filed Pursuant to: Federal Power Act 16 U.S.C. 791(a)-825(r).

h. Applicant Contact: Ms. Jody Smet, Lakeport Hydroelectric One, LLC c/o Eagle Creek Renewable Energy, LLC, 7315 Wisconsin Avenue, Suite 1100W, Bethesda, MD 20814; Phone at (240) 482-2700, or email at jody.smet@eaglecreekre.com.

i. FERC Contact: Erin Kimsey at (202) 502-8621, or erin.kimsey@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 29, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Lakeport Hydroelectric Project (P-6440-010).

m. The application is not ready for environmental analysis at this time.

n. Project Description: The existing Lakeport Project consists of: (1) A 220-foot-long, 10-foot-high concrete gravity dam that includes three 10-foot-high, 18-foot-wide gates, a spillway, and a stoplog gate; (2) an impoundment with a surface area of approximately 70 square miles at an elevation of 504 feet NGVD 29; (3) a 40-foot-wide, 12-foot-long concrete and granite intake structure that is equipped with three headgates and a trashrack with 2-inch clear bar spacing with a 0.75-inch overlay; (4) a concrete and lumber powerhouse containing three 200-kilowatt (kW) vertical submersible Flygt turbine-generator units located on concrete pilings outside for a total installed capacity of 600 kW; (5) a 200-foot-long, 50-foot-wide tailrace that discharges into the Winnipesaukee River; (6) three 0.48-kilovolt (kV) generator leads, three 0.48/12.4-kV step-up transformers, and a 250-foot-long, 12.4 kV transmission line that connect the project to the local utility distribution system; and (7) appurtenant facilities.

The project is operated as a run of-river facility. The average annual generation of the project is approximately 2,250 megawatt-hours.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-6440). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary)—October 2021

Request Additional Information—October 2021

Issue Scoping Document 1 for comments—January 2022

Request Additional Information (if necessary)—February 2022

Issue Acceptance Letter—February 2022

Issue Scoping Document 2—March 2022

Issue Notice of Ready for Environmental Analysis—March 2022

q. Final amendments to the application must be filed with the Commission no later than 30 days from the issuance date of the notice of ready for environmental analysis.

Kimberly D. Bose,
Secretary.

[FR Doc. 2021-20135 Filed 9-16-21; 8:45 am]

BILLING CODE 6717-01-P